NATIONAL SCIENCE FOUNDATION

Committee Management; Renewals

The NSF management officials having responsibility for the advisory committees listed below have determined that renewing these groups for another two years is necessary and in the public interest in connection with the performance of duties imposed upon the Director, National Science Foundation (NSF), by 42 U.S.C. 1861 et seq. One committee will be renamed, #10749 (previous name is in parenthesis.) This determination follows consultation with the Committee Management Secretariat, General Services Administration.

Alan T. Waterman Award Committee, #1172

Advisory Committee for Biological Sciences, #1110

Proposal Review Panel for Biological Infrastructure, #10743

Proposal Review Panel for Environmental Biology, #10744

Proposal Review Panel for Integrative Biology and Neuroscience, #10745

Proposal Review Panel for Molecular and Cellular Biosciences, #10746

Advisory Committee for Education and Human Resources, #1119

Advisory Committee for Engineering, #1170

Advisory Committee for Small Business Industrial Innovation, #61

Advisory Committee for Geosciences, #1755

Proposal Review Panel for Geosciences, #1756

Proposal Review Panel for Earth Sciences, #1569

Proposal Review Panel for Atmospheric Sciences, #10751

Proposal Review Panel for Ocean Sciences, #10752

Advisory Committee for Polar Programs, #1130

Advisory Panel for Integrative Activities, #1373

Advisory Panel for Science Resources Studies, #10750

Proposal Review Panel for Social, Behavioral, and Economic Sciences, #1766

Proposal Review Panel for Behavioral and Cognitive Sciences, #10747

Proposal Review Panel for International Science and Engineering, #10749 (Proposal Review Panel for International Programs)

Effective date for renewal is July 1, 2003. For more information, please contact Susanne Bolton, NSF, at (703) 292-7488.

Dated: June 18, 2003.
Susanne Bolton,
Committee Management Officer.

[FR Doc. 03-15806 Filed 6-20-03; 8:45 am]

BILLING CODE 7555-01-M